DEPARTMENT OF STATE

[Public Notice 11358]

Revocation of the Designations of Ansarallah, Abdul Malik al-Houthi, Abd al-Khaliq Badr al-Din al-Houthi, and Abdullah Yahya al Hakim (and Their Respective Aliases) as Specially Designated Global Terrorists

I hereby revoke the designations of the following persons as Specially Designated Global Terrorist, pursuant to section 1(a)(ii) of Executive Order 13224: Ansarallah, Abdul Malik al-Houthi, Abd al-Khaliq Badr al-Din al-Houthi, Abdullah Yahya al Hakim, and their respective aliases.

This determination shall be published in the Federal Register.

Authority: E.O. 13224, 66 FR 49079, 3 CFR, 2001 Comp., p. 786.

Dated: February 11, 2021.
Antony J. Blinken,
Secretary of State.

[FR Doc. 2021-03192 Filed 2-12-21; 8:45 am]

BILLING CODE 4710-AD-P